DEPARTMENT OF LABOR

Mine Safety and Health Administration

Petitions for Modification

The following parties have filed petitions to modify the application of existing safety standards under section 101(c) of the Federal Mine Safety and Health Act of 1977.

1. Peabody Coal Company

[Docket No. M-2002-046-C]

Peabody Coal Company, 1970 Barrett Court, P. O. Box 1990, Henderson, Kentucky 42419-1990 has filed a petition to modify the application of 30 CFR 75.1101-1(b) (Deluge-type water spray system) to its Gibraltar Highwall Mine (I.D. No. 15-17495) located in Muhlenberg County, Kentucky. The petitioner requests a modification of the existing standard to permit an alternative method for conducting functional tests of its complete deluge-type water system. The petitioner proposes to conduct these tests on a weekly basis instead of annually. The petitioner states that the existing standard will not allow the system to be functionally tested weekly because the dust covers could be blown off and to return the water spray system safely for compliance with the existing standard, the belt would have to be de-energized, locked and tagged, and the dust cover would have to be replaced, which would take approximately 30 minutes per belt drive. The petitioner asserts that the proposed alternative method would provide at least the same measure of protection as the existing standard since any restrictions to the spray system otherwise prevented by the blow-off dust covers would be recognized during the weekly functional test and promptly corrected. The petitioner has requested that this petition be withdrawn due to the mine being worked out and ceasing operations.

2. Husky Coal Company, Inc.

[Docket No. M-2002-047-C]

Husky Coal Company, Inc., P.O. Box 3311, Pikeville, Kentucky 41502 has filed a petition to modify the application of 30 CFR 75.503 and 30 CFR 18.41(f) (Permissible electric face equipment; maintenance) to its No. 12 Mine (I.D. No. 15-16974) located in Pike County, Kentucky. The petitioner proposes to use a permanently installed, spring-loaded device on mobile battery-powered machine plug connectors in lieu of a padlock to prevent unintentional loosening of battery plugs from battery receptacles to eliminate the hazards associated with difficult removal of padlocks during emergency situations. The petitioner asserts that application of the existing standard would result in a diminution of safety to the miners and that the proposed alternative method would provide at least the same measure of protection as the existing standard.

3. Buck Mountain Coal Company

[Docket No. M-2002-048-C]

Buck Mountain Coal Company, 11 S. Pine Street, Tremont, Pennsylvania 17981 has filed a petition to modify the application of 30 CFR 75.381 (Escapeways; anthracite mines) to its Buck Mountain Slope Mine (I.D. No. 36-01962) located in Schuylkill County, Pennsylvania. The petitioner proposes to establish two separate and distinct travelable passageways designated as escapeways continuous from each working section to a point within the mine at the intersection of these two escapeways with an existing rock tunnel and maintain one means of ingress/egress from this point to approximately 900 feet to the surface. The petitioner asserts that the proposed alternative method would provide at least the same measure of protection as the existing standard.

4. Peabody Coal Company

[Docket No. M-2002-049-C]

Peabody Coal Company, 202 Laidley Tower, P.O. Box 1233, Charleston, West Virginia 25324-1233 has filed a petition to modify the application of 30 CFR 75.901 (Protection of low- and medium-voltage three-phase circuits used underground) to its Highland Mine (I.D. No. 15-02709) located in Union County, Kentucky. The petitioner proposes to use a 480-volt, three-phase diesel powered generator to move equipment using specific procedures outlined in this petition. The petitioner states that specific hands on training will be provided to all qualified persons on the proper testing procedures to be utilized and incorporate this training in its part 48 training plans and in the annual refresher training plans for the mine and submit the proposed revisions for its part 48 training plan to the Coal Mine Safety and Health District Manager. The petitioner asserts that the proposed alternative method would provide at least the same measure of protection as the existing standard.

5. Bubber Coal Company, Inc.

[Docket No. M-2002-050-C]

Bubber Coal Company, Inc., P.O. Box 43, Kite, Kentucky 41653 has filed a petition to modify the application of 30 CFR 75.503 (Permissible electric face equipment; maintenance) and 30 CFR 18.41(f) (Plug and receptacle-type connectors) to its No. 1 Mine (I.D. No. 15-17547) located in Knott County, Kentucky. The petitioner proposes to use permanently installed, spring-loaded locking devices to prevent unintentional loosening of battery plugs from battery receptacles to eliminate the hazards associated with difficult removal of padlocks during emergency situations. The petitioner asserts that the proposed alternative method would provide at least the same measure of protection as the existing standard.

Request for Comments

Persons interested in these petitions are encouraged to submit comments via e-mail to “comments@msha.gov,” or on a computer disk along with an original hard copy to the Office of Standards, Regulations, and Variances, Mine Safety and Health Administration, 1100 Wilson Boulevard, 23rd Floor, Arlington, Virginia 22209. All comments must be postmarked or received in that office on or before August 8, 2002. Copies of these petitions are available for inspection at that address.

Dated at Arlington, Virginia, this 2nd day of July, 2002.
Marvin W. Nichols, Jr.,
Director, Office of Standards, Regulations, and Variances.

[FR Doc. 02-17112 Filed 7-8-02; 8:45 am]

BILLING CODE 4510-43-P